DEPARTMENT OF COMMERCE

International Trade Administration

[A-357-812]

Honey From Argentina: Preliminary Results of New Shipper Review

Correction

In notice document E6-19899 beginning on page 67850 in the issue of Friday, November 24, 2006, make the following correction:

On page 67854, in the first column, under the heading Cash Deposit, in the 11th line, the sentences following the period should read “See Collapsing and Affiliation Memorandum. As such, if this preliminary determination becomes final, the combination from the cash deposit instructions issued at initiation will no longer apply. The Department would typically apply the combination cash deposit rate to the Patagonik/CSR entity and the producers who supplied Patagonik/CSR during the POR.”.

[FR Doc. Z6-19899 Filed 12-14-06; 8:45 am]

BILLING CODE 1505-01-D

FEDERAL COMMUNICATIONS COMMISSION

47 CFR Part 74

[WT Docket No. 04-143; FCC 06-141]

Rechannelization of the 17.7-19.7 GHz Frequency Band for Fixed Microwave Services

Correction

In rule document E6-20167 beginning on page 69039 in the issue of Wednesday, November 29, 2006, make the following correction:

§ 74.32 [Corrected]

On page 39048, in the second column, in§ 74.32(c), in the Note to § 74.32:, in the fourth line, “with an accuracy of 30” should read “with an accuracy of ±30.”

[FR Doc. Z6-20167 Filed 12-14-06; 8:45 am]

BILLING CODE 1505-01-D

DEPARTMENT OF THE TREASURY

Internal Revenue Service

26 CFR Part 1

[TD 9293]

RIN 1545-BF88

TIPRA Amendments to Section 199

Correction

In rule document E6-17402 beginning on page 61662 in the issue of Thursday, October 19, 2006, make the following correction:

§ 1.199-0 [Corrected]

On page 61665, in the second column, in § 1.199-0, under § 1.199-7(b)(4),

“(4)Losses used to reduce taxable income of expanded affiliated group. [Reserved].”

should read

“(4)Losses used to reduce taxable income of expanded affiliated group. [Reserved].

* * * * *

”

[FR Doc. Z6-17402 Filed 12-14-06; 8:45 am]

BILLING CODE 1505-01-D

DEPARTMENT OF THE TREASURY

Internal Revenue Service

26 CFR Part 1

[TD 9296]

RIN 1545-BD60

Credit for Increasing Research Activities

Correction

In rule document E6-18909 beginning on page 65722 in the issue of Thursday, November 9, 2006, make the following correction:

§ 1.41-6 [Corrected]

On page 65730, in the first column, in § 1.41-6(e), in Example 5, in paragraph (ii)(A), in the second to last line in the paragraph, “The group credit is 0.20” should read “The group credit is 0.20 x”.

[FR Doc. Z6-18909 Filed 12-14-06; 8:45 am]

BILLING CODE 1505-01-D